DEPARTMENT OF ENERGY

Federal Energy Regulatory Commission

Northern California Power Agency Utica Power Authority; Notice of Availability of Final Environmental Assessment

October 25, 2002.

[Project Nos. 2699-001, 2019-017, & 11563-002-California]

In accordance with the National Environmental Policy Act of 1969 and the Federal Energy Regulatory Commission's (Commission) Regulations, 18 CFR part 380 (Order No. 486, 52 FR 47897), the Office of Energy Projects has reviewed the applications for licenses for the Angels Hydroelectric Project, Utica Hydroelectric Project, and the Upper Utica Project. Commission staff, with the U.S. Forest Service as a cooperating agency, has prepared a Final Environmental Assessment (FEA) for the project. These projects are located on the North Fork Stanislaus River, Silver Creek, Mill Creek, and Angels Creek in Alpine, Calaveras, and Tuolumne Counties, California, partially within the Stanislaus National Forest.

The FEA contains the analysis of the potential environmental impact of the projects and concludes that licensing the projects, with appropriate environmental protective measures, would not constitute a major federal action that would significantly affect the quality of the human environment.

A copy of the FEA is on file with the Commission and is available for public inspection. The FEA may also be viewed on the web at http://www.ferc.gov using the “FERRIS” link. For assistance with FERRIS, the FERRIS help line can be reached at (202) 502-8222, TTY (202) 208-1659.

For further information, contact Timothy Welch at (202) 502-8760.

Magalie R. Salas,
Secretary.

[FR Doc. 02-27941 Filed 11-1-02; 8:45 am]

BILLING CODE 6717-01-P